FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 28, 2000.

A. Federal Reserve Bank of Chicago (Phillip Jackson, Applications Officer) 230 South LaSalle Street, Chicago, Illinois 60690-1414:

1. John Randall (Randy) Winegard, Burlington, Iowa; Larry Henson, Davenport, Iowa; James Woods, Davenport, Iowa; Gregory Jay Shottenkirk and Toni Marie Shottenkirk, Fort Madison, Iowa; Shottenkirk Partnership L.P.; Lee Capital Corporation, Fort Madison, Iowa; Lynn Crabtree, Fort Madison, Iowa; Charlotte Foster, Davenport, Iowa; Foster Family Partnership, Davenport, Iowa; Robert Charles Fick, Eldridge, Iowa; Ronald Lee Burmeister, Eldridge, Iowa; Winegard Realty Company, Burlington, Iowa; Rob Rick Inc., Davenport, Iowa; and Brian Tugana, Clinton, Iowa; to acquire additional voting shares of River Valley Bancorp, Inc., Eldridge, Iowa, and thereby indirectly acquire additional voting shares of Valley State Bank, Eldridge, Iowa.

Board of Governors of the Federal Reserve System, February 8, 2000.
Robert deV. Frierson,
Associate Secretary of the Board.

[FR Doc. 00-3273 Filed 2-10-00; 8:45 am]

BILLING CODE 6210-01-P